DEPARTMENT OF DEFENSE

Department of the Air Force

Notice of Intent To Prepare an Environmental Impact Statement for the Presidential Aircraft Recapitalization Program at Joint Base Andrews-Naval Air Facility, Washington, Maryland

AGENCY: United States Air Force, Department of Defense.

ACTION: Notice of intent.

SUMMARY: The United States Air Force (Air Force) is issuing this notice to advise the public of its intent to prepare an Environmental Impact Statement (EIS) for the Presidential Aircraft Recapitalization (PAR) Program at Joint Base Andrews-Naval Air Facility, Washington, Maryland (JBA). The EIS will assess the potential environmental consequences of the proposal to beddown versions of the Boeing 747-8 passenger aircraft at JBA as replacements to the two existing VC-25A aircraft currently used to transport the President of the United States (POTUS).

DATES: The Air Force plans to hold one daytime and one nighttime public scoping meeting, at the locations and times below:

1. Daytime Scoping Meeting: Veterans of Foreign Wars Post 9619, 6527 Suitland Road, Morningside, MD 20746, on Tuesday, May 24th, 2016 from 9:00- 11:00 a.m.

2. Nighttime Scoping Meeting: Veterans of Foreign Wars Post 9619, 6527 Suitland Road, Morningside, MD 20746, on Monday, May 23rd, 2016 from 6:00-8:00 p.m.

ADDRESSES: Additional information on the PAR Program and the EIS/EIAP process can be accessed at the project Web site at www.parprogrameis.com, and the JBA Web site at www.andrews.af.mil. Inquiries and comments-by-mail regarding the USAF proposal should be directed to AFCEC/CZN, 2261 Hughes Ave., Ste. 155, JBSA-Lackland, TX 78236-9853, ATTN: Mr. John Guerra.

The project Web site can also be used to submit scoping comments and scoping comments may also be submitted by mail to the address listed below. Comments will be accepted at any time during the Environmental Impact Analysis Process (EIAP). However, to ensure the Air Force has sufficient time to consider public input in the preparation of the Draft EIS, scoping comments should be submitted to the Web site or the address listed below by May 28th, 2016.

SUPPLEMENTARY INFORMATION: The aircraft replacement was requested by the White House in April 2006 and was approved by the Secretary of the Air Force in a Strategic Basing decision on June 12, 2012. The EIS will assess the potential environmental consequences of bedding down the new aircraft, including construction of a new Presidential Complex with a multi-bay hangar facility, other necessary facility improvements and relocation of select facilities displaced by PAR activities. Facilities potentially requiring relocation include the Hazardous Cargo Pad (HCP), the Explosive Ordnance Disposal (EOD) Proficiency Range, the Joint Air Defense Operations Center (JADOC) Satellite Site, areas of the existing golf course, and the Military Working Dog (MWD) Kennel. The EIS will analyze various alternatives for implementing the Proposed Action at JBA (beddown and operations of a new aircraft) including a No Action Alternative. The Air Force is preparing this EIS in accordance with National Environmental Policy Act (NEPA) of 1969; 40 Code of Federal Regulations (CFR), Parts 1500-1508, the Council on Environmental Quality (CEQ) regulations implementing NEPA; and the USAF Environmental Impact Analysis Process (EIAP) [32 CFR part 989].

Scoping and Agency Coordination: To effectively define the full range of issues and concerns to be evaluated in the EIS, the Air Force is soliciting scoping comments from interested local, state and federal agencies and interested members of the public. This NOI also serves to provide early notice of compliance with Executive Order (EO) 11990, “Protection of Wetlands” and EO 11988, “Floodplain Management.” State and federal regulatory agencies with special expertise in wetlands and floodplains have been contacted to request comment. The Air Force will hold two scoping meetings to inform the public as well as to solicit comments and concerns about the proposal. Scoping meetings will be held in the local community. Scheduled dates, locations, and addresses for each meeting will be published in the Washington Post, Prince George's County Gazette, and the Andrews Gazette newspapers a minimum of fifteen (15) days prior to each meeting.

Anh Trinh,
Air Force Federal Register Liaison Officer.

[FR Doc. 2016-10401 Filed 5-3-16; 8:45 am]

BILLING CODE 5001-10-P